Title 3—

The President

Proclamation 10910 of April 3, 2025

Cancer Control Month, 2025

By the President of the United States of America

A Proclamation

During Cancer Control Month, we honor the unwavering strength and courage of every American battling cancer and celebrate with over 18 million survivors who are still with us today. We also hold dear the memories of beloved family members and friends that we have lost to this devastating disease. My Administration remains devoted to pursuing groundbreaking medical advancement and spearheading innovative treatments to combat and prevent all forms of cancer.

Last year, over 2 million Americans were diagnosed with cancer, and more than 600,000 lost their lives to this horrific disease. Since 1990, adult cancer cases have surged by 88 percent, while childhood cancer cases, though still uncommon, has incrementally increased by 0.8 percent annually since 1975, leading to a more than 40 percent increase in the past 50 years. These trends indicate that something is wrong. That is why I have proudly established the Make America Healthy Again Commission to address the root causes of America's chronic disease crisis.

My Administration is committed to lowering healthcare costs; making additional treatment options available through Right to Try; and rooting out waste, fraud, and abuse in Government. By promoting transparency and ending conflicts of interest in federally funded health research, we are working to restore trust in our medical and scientific institutions. As President, I am also tapping into emerging technologies like artificial intelligence to support cutting-edge research in innovative fields like genomics and immunotherapy, pioneering medical advances that will improve the lives of cancer patients.

Cancer is the second leading cause of death in the United States. However, there are encouraging signs of progress. The combined death rate from all types of cancer continues to decline among both men and women, and the mortality rates for several common cancers—including lung, colon, breast, and ovarian—are steadily decreasing. These promising developments reflect the unending efforts of our Nation's dedicated healthcare professionals to diagnose cancers at earlier stages, improve prevention, and enhance treatment.

Americans must take action to prevent and combat cancer. Maintaining a healthy weight, adopting balanced eating habits, and engaging in regular physical activity may help prevent kidney, endometrial, esophageal, colorectal, and other cancers. Avoiding tobacco use and alcohol consumption can also help prevent and combat cancers. Additionally, Americans should discuss their family medical history with their doctors and undergo recommended screenings. This can lead to an early diagnosis and increase the odds of overcoming the disease.

As a country, we will continue to push the boundaries of medical innovation, driven by the unwavering spirit of the American people. Together, we will work to vanquish cancer, eradicating the suffering and pain it has inflicted on too many American families. I have unshakable faith in the greatness of our Nation and the excellence of our people. We will continue to fight until we find a long-sought cure, and we will emerge victorious in our fight against cancer.

The Congress of the United States, by joint resolution approved March 28, 1938 (52 Stat. 148; 36 U.S.C. 103), as amended, has requested the President to issue an annual proclamation declaring April as “Cancer Control Month.”

NOW, THEREFORE, I, DONALD J. TRUMP, President of the United States of America, by virtue of the authority vested in me by the Constitution and the laws of the United States, do hereby proclaim April 2025 as Cancer Control Month. I call upon the people of the United States to observe this month with relevant programs, ceremonies, and activities.

IN WITNESS WHEREOF, I have hereunto set my hand this third day of April, in the year of our Lord two thousand twenty-five, and of the Independence of the United States of America the two hundred and forty-ninth.

[FR Doc. 2025-06158

Filed 4-8-25; 8:45 am]

Billing code 3395-F4-P